DEPARTMENT OF AGRICULTURE

Forest Service

Siskiyou, Oregon Resource Advisory Committee

AGENCY: Forest Service, USDA.

ACTION: Notice of meeting.

SUMMARY: The Siskiyou, Oregon Resource Advisory Committee (RAC) will meet in Gold Beach, Oregon. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is orientation of RAC members.

DATES: The meeting will be held May 22, 2014 from 10:00 a.m. to 3:00 p.m.

All RAC meetings are subject to cancellation. For status of meeting prior to attendance, please contact the person listed under FOR FURTHER INFORMATION CONTACT.

ADDRESSES: The meeting will be held at the Curry County Fairgrounds Showcase Building, 29392 Ellensburg Avenue, Gold Beach, Oregon 97444.

Written comments may be submitted as described under SUPPLEMENTARY INFORMATION. All comments, including names and addresses when provided, are placed in the record and are available for public inspection and copying. The public may inspect comments received at Medford Interagency Office, 3040 Biddle Road, Medford, Oregon 97504. Please call ahead to facilitate entry into the building.

FOR FURTHER INFORMATION CONTACT: Virginia Gibbons, Rogue River-Siskiyou National Forest Public Affairs Officer by phone at 541-618-2113 or via email at vgibbons@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accomodation for access to the facility or procedings by contacting the person listed FOR FURTHER INFORMATION.

SUPPLEMENTARY INFORMATION: Additional RAC information, including the meeting agenda and the meeting summary/minutes can be found at the following Web site: https://fsplaces.fs.fed.us/fsfiles/unit/wo/secure_rural_schools.nsf/Web_Agendas?OpenView&Count=1000&RestrictToCategory=Siskiyou-OR. The agenda will include time for people to make oral statements of three minutes or less. Individuals wishing to make an oral statement should request in writing by May 16, 2014 to be scheduled on the agenda. Anyone who would like to bring related matters to the attention of the committee may file written statements with the committee staff before or after the meeting. Written comments and requests for time for oral comments must be sent to Virginia Gibbons, Rogue River-Siskiyou National Forest Public Affairs Officer, 3040 Biddle Road, Medford, Oregon 97504; or by email to vgibbons@fs.fed.us, or via facsimile to 541-618-2143.

Dated: April 15, 2014.
Robert G. MacWhorter,
Forest Supervisor.

[FR Doc. 2014-09100 Filed 4-21-14; 8:45 am]

BILLING CODE 3410-11-P